CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, CNCS is soliciting comments concerning its proposed renewal of the AmeriCorps Member Exit Questionnaire.

Copies of the information collection request can be obtained by contacting the office listed in the Addresses section of this Notice.

DATES: Written comments must be submitted to the individual and office listed in the ADDRESSES section by November 17, 2014.

ADDRESSES: You may submit comments, identified by the title of the information collection activity, by any of the following methods:

(1) By mail sent to: Corporation for National and Community Service, Office of Research and Evaluation; Diana Epstein, Senior Research Analyst, 10901A; 1201 New York Avenue NW., Washington, DC, 20525.

(2) By hand delivery or by courier to the CNCS mailroom at Room 8100 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Diana Epstein, 202-606-7564, or by email at your DEpstein@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

All members in the three AmeriCorps programs—AmeriCorps State & National, VISTA, and the National Civilian Community Corps (NCCC)—are invited to complete a questionnaire upon completing their service term. The questionnaire asks members about their motivations for joining AmeriCorps, experiences while serving, and future plans and aspirations. Completion of the questionnaire is not required to successfully exit AmeriCorps, receive any stipends, educational awards, or other benefits of service. The purpose of the information collection is to learn more about the member experience and member perceptions of their AmeriCorps experience in order to improve the program. Members complete the questionnaire electronically through the AmeriCorps Member Portal. Members are invited to respond as their exit date nears and are allowed to respond for an indefinite period following the original invitation.

Current Action

CNCS seeks to renew the current information collection. The questionnaire submitted for clearance is a combination of new and existing content from the previously cleared exit questionnaire. The new content reflects changing agency and program priorities. In addition, some approved questions have been edited to make them easier to understand and to provide more useful information for programs. The new questions include data points on problem-solving and cross-cultural communication skills.

The information collection will otherwise be used in the same manner as the existing application. CNCS also seeks to continue using the current application until the revised application is approved by OMB. The current application expired on 7/31/2014.

Type of Review: Renewal.

Agency: Corporation for National and Community Service.

Title: Performance Measurement in AmeriCorps.

OMB Number: 3045-0094.

Agency Number: None.

Affected Public: AmeriCorps members.

Total Respondents: 80,000.

Frequency: Annual.

Average Time per Response: Averages 15 minutes.

Estimated Total Burden Hours: 20,000.

Total Burden Cost (capital/startup): None.

Total Burden Cost (operating/maintenance): None.

Comments submitted in response to this notice will be summarized and/or included in the request for Office of Management and Budget approval of the information collection request; they will also become a matter of public record.

Dated: September 11, 2014.
Stephen Plank,
Office of Research & Evaluation.

[FR Doc. 2014-22077 Filed 9-16-14; 8:45 am]

BILLING CODE 6050-28-P